DEPARTMENT OF TRANSPORTATION

Federal Railroad Administration

[Docket No. FRA-2008-0009, Notice No. 3]

Declaration of Emergency Events

AGENCY: Federal Railroad Administration (FRA), DOT.

ACTION: Notice of declaration of emergency events.

SUMMARY: On August 28 and September 4, 2008, the Administrator of the FRA determined that the impending landfall of hurricanes Gustav, Hanna, and Ike and the related requests for Presidential, Federal Disaster Declarations from the Governors of the States of Texas and Louisiana, constituted emergency events as related to railroad operations. Accordingly, the Administrator activated the Emergency Relief Docket. This document provides notice of the Administrator's determinations.

SUPPLEMENTARY INFORMATION: On August 28 and September 4, 2008, the Administrator of the FRA determined that the impending landfall of hurricanes Gustav, Hanna, and Ike and the related requests for Presidential, Federal Disaster Declarations from the Governors of the States of Texas and Louisiana, constituted emergency events pursuant to 49 CFR 211.45(c) and that public safety required the implementation of FRA's emergency waiver rule directly related to those emergencies. Accordingly, the Administrator activated the Emergency Relief Docket (docket number FRA-2008-0009) and in accordance with 49 CFR 211.45(g), petitions received in that docket pursuant to these emergency events will be handled according to the requirements of 49 CFR 211.45(g)-(j).

Interested parties are reminded that the procedures in 49 CFR 211.45 provide for expedited review and processing of emergency waiver petitions. Accordingly, in accordance with 49 CFR 211.45(h), any person wishing to comment on petitions for emergency waivers should submit their comments to the docket within 72 hours from the close of business on the day that the petition is posted in the public docket. Any person desiring a public hearing on any petition being processed in accordance with the emergency waiver procedures must notify FRA of such request in their comments submitted to the docket. 49 CFR 211.45(i).

Interested persons may submit their comments using any of the following methods:

(1) E-mail to FRA at RRS.Correspondence@dot.gov;

(2) Fax to FRA at: 202-493-6309; or

(3) Hand deliver or expedited delivery to the Docket Clerk, Docket Operations Facility, U.S. Department of Transportation, 1200 New Jersey Avenue, SE., W12-140, Washington, DC 20590 or electronically via the Internet at http://www.regulations.gov.

All communications concerning any petition in the Emergency Relief Docket should identify the appropriate docket number (e.g., FRA-2008-0009).

Privacy

Anyone is able to search all comments received into any of our dockets by the name of the individual submitting the comment (or signing the comment, if submitted on behalf of an association, business, labor union, etc.). You may review DOT's complete Privacy Act Statement in the Federal Register published on April 11, 2000 (Volume 665, Number 7, Pages 19477-78). The statement may also be found at http://www.dot.gov/privacy.html.

Issued in Washington, DC on September 8, 2008.
Grady C. Cothen, Jr.,
Deputy Associate Administrator for Safety Standards and Program Development.

[FR Doc. E8-21336 Filed 9-11-08; 8:45 am]

BILLING CODE 4910-06-P